FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

American Logistic Group, Inc. (NVO & OFF), 14710 South Maple Avenue, Gardena, CA 90248, Officers: Yung K. Choi, Secretary (Qualifying Individual), Sang W. Ha, President, Application Type: New NVO & OFF License.

Auto Export Shipping, Inc. dba A.E.S. Inc. (NVO), One Slater Drive, Elizabeth, NJ 07206, Officers: Thomas O'Rourke, Assistant Secretary (Qualifying Individual), T. Michael Riggs, Director, Application Type: QI Change.

AZ Freight International Inc. (NVO & OFF), 18311 Railroad Street, City of Industry, CA 91748, Officer: Lang Zhang, President (Qualifying Individual), Application Type: New NVO & OFF License.

Cargo One, Inc. (NVO), 970 West 190th Street, Suite 580, Torrance, CA 90502, Officers: Yoji Kurita, President (Qualifying Individual), Turo Toda, Managing Director, Application Type: Transfer to NTL Naigai Trans Line (USA) Inc. dba NTL Cargo One.

CJ Services International Corp. (NVO), 10257 NW 52nd Terrace, Doral, FL 33178, Officers: Carla L. Imach, President (Qualifying Individual), Alexis J. Artman, Vice President, Application Type: New NVO License.

Federal Forwarding Company (OFF), 1701 Florida Avenue NW., Washington, DC 20009, Officers: Lawrence DePace, President (Qualifying Individual), Robert D. Van Roijen, Owner, Application Type: Add Trade Name Secor Group Global Logistics.

Global Shipping Partners, LLC (NVO), 437 Perrie Drive, #202, Elk Grove Village, IL 60007, Officer: Jason P. Kwon, Member (Qualifying Individual), Application Type: New NVO License.

Global Supply Chain Solutions Inc. (NVO & OFF), 2301 W. 205th Street, Unit 113, Torrance, CA 90501, Officers: Tony Shin, Vice President (Qualifying Individual), Anthony Lau, Director, Application Type: New NVO & OFF License.

I.T.N. Consolidators, Inc. (NVO), 3401-C NW. 72nd Avenue, Miami, FL 33122, Officers: Juan A. Garcia, Vice President (Qualifying Individual), John R. Nash, CFO, Application Type: Add Trade Name International Transportation Network & QI Change.

I.T.N. of Miami, Inc. (NVO), 3401-C NW. 72nd Avenue, Miami, FL 33122, Officers: Juan A. Garcia, Vice President (Qualifying Individual), John R. Nash, CFO, Application Type: QI Change.

Seagull Maritime Agencies Private Limited (NVO), F-35/3, Okhla Industrial Area, Phase II, New Delhi-110020, India, Officers: Siddharth Khera, Vice President (Qualifying Individual), Sidhartha C. Jena, President, Application Type: QI Change.

Service Galopando Corp. (NVO), 3190 South State Road 7, Bay 5, Miramar, FL 33023, Officers: Candido Montero, President (Qualifying Individual), Jorge A. Montero, Vice President, Application Type: New NVO License.

TOC Logistics International, LLC (NVO & OFF), 2629 Waterfront Parkway East Drive, #380, Indianapolis, IN 46214, Officers: Gary Cardenas, CEO (Qualifying Individual), Craig Roeder, Board of Members, Application Type: QI Change.

UPS Ocean Freight Services, Inc. (NVO), 12380 Morris Road, Alpharetta, GA 30005, Officers: Steven S. McMichael, Assistant Secretary (Qualifying Individual), Kurt Keuhn, Treasurer, Application Type: QI Change.

UPS Supply Chain Solutions, Inc. (OFF), 12380 Morris Road, Alpharetta, GA 30005, Officers: Steven S. McMichael, Assistant Secretary (Qualifying Individual), Dan Brutto, President, Application Type: QI Change.

USCOM Logistics, Inc. (NVO & OFF), 1420 Francisco Street, Torrance, CA 90501, Officers: Seo B. Ha, Vice President (Qualifying Individual), Chung J. Park, President, Application Type: QI Change.

Your Connexion, Inc. (NVO & OFF), 13280 SW 131 Street, #108, Miami, FL 33186, Officers: Mauricio R. Valencia, President (Qualifying Individual), Mauricio J. Valencia, Secretary, Application Type: New NVO & OFF License.

Dated: August 10, 2012.
By the Commission.
Karen V. Gregory,
Secretary.

[FR Doc. 2012-20080 Filed 8-15-12; 8:45 am]

BILLING CODE 6730-01-P